DEPARTMENT OF TRANSPORTATION

Pipeline and Hazardous Materials Safety Administration

[Docket No.: PHMSA-2018-0004; Notice No. 2018-04]

Hazardous Materials: Public Meeting Notice for the Research and Development Roundtable

AGENCY: Pipeline and Hazardous Materials Safety Administration (PHMSA), U.S. Department of Transportation (DOT).

ACTION: Notice of public meeting.

SUMMARY: This notice is to inform the interested public that the Office of Hazardous Materials Safety (OHMS) of the Pipeline and Hazardous Materials Safety Administration (PHMSA) will hold a public Research and Development (R&D) Roundtable on October 24, 2019, in Washington, DC OHMS will host the meeting to provide an overview of its next Broad Agency Announcement (BAA) which will help the agency meet its goals of promoting safety and fostering innovation. The meeting will provide an overview of OHMS' R&D program; internal and external processes behind the BAA; limits of the BAA; and the results of the 2017 BAA. All participants will have an equal chance to provide input for future consideration.

DATES: The meeting will be held on October 24, 2019, from 8:30 a.m. to 2:30 p.m. Eastern Standard Time. Requests to attend the meeting must be received by October 22, 2019. Requests for accommodations for a disability must be received by October 21, 2019.

ADDRESSES: The meeting will be held at the U.S. Department of Transportation Conference Center at 1200 New Jersey Avenue SE, Washington, DC 20590. The DOT requests that attendees pre-register for this meeting by completing the form at https://www.surveymonkey.com/r/BJMMQYM. Conference call-in capability will be provided. Specific information about conference call-in meeting access will be posted, when available, at: https://www.phmsa.dot.gov/research-and-development/hazmat/rd-meetings-and-events under “Upcoming Events.”

FOR FURTHER INFORMATION CONTACT: Eva Rodezno or Rick Boyle, Office of Hazardous Materials Safety, Research and Development, Pipeline and Hazardous Materials Safety Administration, U.S. Department of Transportation, Washington, DC. Telephone: (202) 366-8799 and (202) 366-2993. Email: eva.rodezno@dot.gov or rick.boyle@dot.gov.

SUPPLEMENTARY INFORMATION:

I. Background

OHMS' mission is to protect people and the environment from the risks posed by hazardous materials (hazmat) transportation. To this end, OHMS is particularly interested in research gaps associated with:

• Development of New Standards for Bulk and Non-Bulk Packaging

• Improved Materials and Designs for Hazardous Materials Packaging

• Self (Default) Classification of Hazardous Materials and/or Articles

• Improvements to the North American Emergency Response Guidebook

• Charge Storage Device Transportation Safety

• Innovative Technologies to Improve Hazmat Transportation Safety

The meeting will be hosted and facilitated by PHMSA. Meeting participants will include modal authorities and external research partners including other DOT modal partners. OHMS R&D efforts include laboratory testing, analysis, modeling, product and material development, and field testing.

II. Agenda

The meeting agenda will cover the following topics:

• Safety Briefing and Overview

• Welcome and Administrative Remarks

• Research Gaps: Safety

• Research Gaps: Innovation

• Closing Remarks

III. Public Participation

The meeting will be open to the public on a first come, first served basis, as space is limited. Members of the public who wish to attend in person must RSVP by filling out the form listed in the ADDRESSES section. The U.S. Department of Transportation is committed to providing equal access to this meeting for all participants. If you need alternative formats or services because of a disability, such as sign language, interpretation, or other ancillary aids, please contact the person listed in the FOR FURTHER INFORMATION CONTACT section.

Issued in Washington, DC, on September 18, 2019, under authority delegated in 49 CFR 1.97.
William S. Schoonover,
Associate Administrator for Hazardous Materials Safety, Pipeline and Hazardous Materials Safety Administration.

[FR Doc. 2019-20547 Filed 9-20-19; 8:45 am]

BILLING CODE 4909-60-P